SECURITIES AND EXCHANGE COMMISSION

Sunshine Act Meeting

Notice is hereby given, pursuant to the provisions of the Government in the Sunshine Act, Public Law 94-409, that the Securities and Exchange Commission Investor Advisory Committee will hold a meeting on Thursday, October 15, 2015, in Multi-Purpose Room LL-006 at the Commission's headquarters, 100 F Street NE., Washington, DC. The meeting will begin at 10 a.m. (ET) and will be open to the public. Seating will be on a first-come, first-served basis. Doors will open at 9 a.m. Visitors will be subject to security checks. The meeting will be webcast on the Commission's Web site at www.sec.gov.

On September 22, 2015, the Commission issued notice of the Committee meeting (Release No. 33-9924), indicating that the meeting is open to the public (except during that portion of the meeting reserved for an administrative work session during lunch), and inviting the public to submit written comments to the Committee. This Sunshine Act notice is being issued because a quorum of the Commission may attend the meeting.

The agenda for the meeting includes: Remarks from Commissioners; a discussion of recent market structure developments; a discussion of exchange-traded fund pricing; a report of the Committee chair regarding Committee matters; a discussion of SEC enforcement priorities; and a nonpublic administrative work session during lunch.

For further information, please contact the Office of the Secretary at (202) 551-5400.
Dated: October 8, 2015.
Brent J. Fields,
Secretary.

[FR Doc. 2015-26158 Filed 10-9-15; 11:15 am]

BILLING CODE 8011-01-P